DEPARTMENT OF LABOR

Employment and Training Administration

[TA-W-59,000]

Kelly Scientific, Westminster, CO; Notice of Termination of Investigation

Pursuant to section 221 of the Trade Act of 1974, as amended, an investigation was initiated on March 13, 2006 in response to a worker petition filed by a state agency on behalf of workers at Kelly Scientific, Westminster, Colorado.

The petitioner has requested that the petition be withdrawn. Consequently, the investigation has been terminated.

Signed at Washington, DC this 27th day of March, 2006.
Elliott S. Kushner,
Certifying Officer, Division of Trade Adjustment Assistance.

[FR Doc. E6-5374 Filed 4-11-06; 8:45 am]

BILLING CODE 4510-30-P